DEPARTMENT OF TRANSPORTATION

Surface Transportation Board

[STB Finance Docket No. 34210]

Sunflower Rail Company, LLC—Construction and Operation Exemption—Finney County, KS

AGENCY: Surface Transportation Board.

ACTION: Notice of exemption.

SUMMARY: Under 49 U.S.C. 10502, the Board conditionally exempts from the prior approval requirements of 49 U.S.C. 10901 the construction by Sunflower Rail Company, LLC (SRC)¹ of approximately 4.7 miles of railroad line in the vicinity of Garden City in Finney County, KS.²

¹ SRC is a subsidiary of Sunflower Electric Power Corporation.

² The proposed construction involves a crossing of a line of The Burlington Northern and Santa Fe Railway Company (BNSF). SRC states that while it is hopeful it can reach an agreement with BNSF permitting it to cross BNSF's line, SRC has concurrently filed a related petition in STB Finance Docket No. 34210 (Sub-No. 1), Sunflower Rail Company, LLC—Petition for Crossing Authority Under 49 U.S.C. 10901(d), seeking authority to cross the BNSF track.

DATES: The exemption will not become effective until the environmental review process is completed. Once that process is completed, the Board will issue a further decision addressing the environmental matters and establishing an exemption effective date at that time, if appropriate. Petitions to reopen must be filed by April 17, 2003.

ADDRESSES: An original and 10 copies of all pleadings, referring to STB Finance Docket No. 34210, must be filed with the Surface Transportation Board, 1925 K Street, NW., Washington, DC 20423-0001. In addition, one copy of all pleadings must be served on petitioner's representative David A. Hirsh, Harkins Cunningham, 801 Pennsylvania Avenue, NW., Suite 600, Washington, DC 20004.

FOR FURTHER INFORMATION CONTACT: Beryl Gordon, (202) 565-1600 [Assistance for the hearing impaired is available through the Federal Information Relay Service (FIRS) at 1-800-877-8339].

SUPPLEMENTARY INFORMATION: Additional information is contained in the Board's decision. Copies of the decision may be purchased from Dā to Dā Legal Copy Service by calling (202) 293-7776 (assistance for the hearing impaired is available through FIRS at 1-800-877-8339) or by visiting Suite 405, 1925 K Street, NW., Washington, DC 20006.

Board decisions and notices are available on our Web site at www.stb.dot.gov.

Decided: March 21, 2003.
By the Board, Chairman Nober and Commissioner Morgan.
Vernon A. Williams,
Secretary.

[FR Doc. 03-7519 Filed 3-27-03; 8:45 am]

BILLING CODE 4915-00-P